DEPARTMENT OF ENERGY

Federal Energy Regulatory Commission

[Docket No. RP12-220-000]

Brian Hamilton; El Paso Natural Gas and El Paso Western Pipelines; Notice of Complaint

Take notice that on December 2, 2011, pursuant to 49 CFR 192.61, 192.7 and 31.8 of the Federal Energy Regulatory Commission's (Commission) Rules of Practice and Procedures, the Pipeline Safety Improvement Act of 2002, and the Pipeline Hazardous Material Safety Administration, Brian Hamilton (Complainant) filed a formal complaint against El Paso Natural Gas and El Paso Western Pipelines (Respondents) alleging that the Respondents failed to properly maintain the property of Complainant where the Respondents have right of way privileges to operate a high pressure interstate natural gas pipeline.

The Complainant certifies that copies of the complaint were served upon Respondents.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on December 21, 2011.

Dated: December 2, 2011.
Nathaniel J. Davis, Sr.,
Deputy Secretary.

[FR Doc. 2011-31504 Filed 12-7-11; 8:45 am]

BILLING CODE 6717-01-P